DEPARTMENT OF TRANSPORTATION

Federal Aviation Administration

Agency Information Collection Activity Under OMB Review, Request for Comments; Renewal of an Approved Information Collection Activity, Aircraft Certification Systems Evaluations Program (ACSEP) Evaluation Customer Feedback Report

AGENCY: Federal Aviation Administration (FAA), DOT.

ACTION: Notice and request for comments.

SUMMARY: The FAA invites public comments about our intention to request the Office of Management and Budget's (OMB) approval for the renewal of a currently approved information collection. The information will be collected from holders of FAA production approvals and selected suppliers to obtain their input on how well the agency is performing the administration and conduct of the Aircraft Certification Systems Evaluation Program (ACSEP). The Agency will use the information as a customer service standard to continually improve ACSEP. A notice was published in the Federal Register announcing our intention to request renewal of this collection on September 6, 2005, vol 70, #171, pages 53039-53040.

DATES: Please submit comments by January 19, 2006.

FOR FURTHER INFORMATION CONTACT: Judy Street on (202) 267-9895.

SUPPLEMENTARY INFORMATION:

Federal Aviation Administration (FAA)

Title: Aircraft Certification Systems Evaluations Program (ACSEP) Evaluation Customer Feedback Report.

Type of Request: Renewal of an approved collection.

OMB Control Number: 2120-0605.

Form(s): ACSEP Customer Service Feedback Form.

Affected Public: A total of 200 pilots.

Frequency: The information is conducted on an as-needed basis.

Estimated Average Burden Per Response: Approximately 30 minutes per response.

Estimated Annual Burden Hours: An estimated 100 hours annually.

Abstract: The information will be collected from holders of FAA production approvals and selected suppliers to obtain their input on how well the agency is performing the administration and conduct of the Aircraft Certification Systems Evaluation Program (ACSEP). The Agency will use the information as a customer service standard and to continually improve ACSEP.

ADDRESSES: Send comments to the Office of Information and Regulatory Affairs, Office of Management and Budget, 725 17th Street, NW., Washington, DC 20503, Attention FAA Desk Officer.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on December 14, 2005.
Judith D. Street,
FAA Information Collection Clearance Officer, Information Systems and Technology Services Staff, ABA-20.

[FR Doc. 05-24274 Filed 12-19-05; 8:45 am]

BILLING CODE 4910-13-M